DEPARTMENT OF TRANSPORTATION

Federal Aviation Administration

[Docket No. 2020-0616]

Agency Information Collection Activities: Requests for Comments; Clearance of a Renewed Approval of Information Collection: Certification Procedures for Products and Parts

AGENCY: Federal Aviation Administration (FAA), Department of Transportation (DOT).

ACTION: Notice and request for comments.

SUMMARY: In accordance with the Paperwork Reduction Act of 1995, FAA invites public comments about our intention to request the Office of Management and Budget (OMB) approval to renew an information collection in FAA regulations that prescribe certification standards for aircraft, aircraft engines, propellers appliances and parts. The information collected is used to determine compliance and applicant eligibility. The respondents are aircraft parts designers, manufacturers, and aircraft owners.

DATES: Written comments should be submitted by August 18, 2020.

ADDRESSES: Please send written comments:

By Electronic Docket: https://www.regulations.gov (Enter docket number into search field).

By mail: Brian Cable, Federal Aviation Administration, AIR-6C0, 800 Independence Ave. SW, Washington, DC 20591.

By fax: 202-267-1813.

FOR FURTHER INFORMATION CONTACT: Brian Cable by email at: brian.cable@faa.gov; phone: 202-267-1579.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0018.

Title: Certification Procedures for Products and Parts.

Form Numbers: FAA Forms 8110-12, 8130-1, 8130-6, 8130-9, 8130-12.

Type of Review: Renewal of an information collection.

Background: 14 CFR part 21 prescribes certification standards for aircraft, aircraft engines, propellers appliances and parts. The information collected is used to determine compliance and applicant eligibility. FAA Airworthiness inspectors, designated inspectors, engineers, and designated engineers review the required data submittals to determine that aviation products and articles and their manufacturing facilities comply with the applicable requirements, and that the products and articles have no unsafe features.

Respondents: Approximately 50,700 aircraft parts designers, manufacturers, and aircraft owners.

Frequency: On occasion.

Estimated Average Burden per Response: 30 minutes.

Estimated Total Annual Burden: 18,785 hours.

Issued in Washington, DC, on June 16, 2020.
Joy Wolf,
Management & Program Analyst for Regulatory and Guidance Processing, Aircraft Certification Service.

[FR Doc. 2020-13259 Filed 6-18-20; 8:45 am]

BILLING CODE 4910-13-P